DEPARTMENT OF COMMERCE

Foreign-Trade Zones Board

[Docket 53-2007]

Foreign-Trade Zone 38—-Spartanburg County, SC; Application for Expansion

An application has been submitted to the Foreign-Trade Zones (FTZ) Board (the Board) by the South Carolina State Ports Authority, grantee of FTZ 38, requesting authority to expand its existing zone to include additional sites in the Greenville-Spartanburg, South Carolina Customs and Border Protection port of entry. The application was submitted pursuant to the provisions of the Foreign-Trade Zones Act, as amended (19 U.S.C. 81a-81u), and the regulations of the Board (15 CFR Part 400). It was formally filed on December 20, 2007.

FTZ 38 was approved by the Board on May 4, 1978 (Board Order 131, 43 FR 20526, 5/12/78) and expanded as follows: on November 9, 1994 (Board Order 715, 59 FR 59992, 11/21/94); on July 23, 1997 (Board Order 910, 62 FR 40797, 7/30/97); on January 8, 1999 (Board Order 1015, 64 FR 3064, 1/8/99); and, on July 21, 2005 (Board Order 1404, 70 FR 44559).

The general-purpose zone project currently consists of seven sites (1,546 acres) in Spartanburg County/Laurens Counties: Site 1 (20 acres)—within the 74-acre Global Trade Center located at 200 Forest Way, Greenville; Site 2 (799 acres)—International Transport Center (111 acres) and Gateway International Business Center (688 acres), Greer; Site 3 (97 acres)—Highway 290 Commerce Park (111 acres) and a warehouse facility (5 acres) located at 150 Parkway West, Duncan; Site 4 (473 acres)—Wingo Corporate Park, Spartanburg; Site 5 (118 acres)—TNT Logistics/Michelin North America, Inc., facility located at 101 Michelin Drive, Laurens; Site 6 (20 acres)—Lakeside Business Center located at 961 Berry Shoals Road in Greer; and, Temporary Site T-1 (19 acres)—ZF Lemforder Corporation, 240 Parkway East, in Duncan.

The applicant is now requesting authority to expand the general-purpose zone to include five additional sites in the area: Proposed Site 8 (88 acres)—Riverbend Business Center, located at Cedar Crest Road and Compton Road, Spartanburg; Proposed Site 9 (207 acres)—Corporate Center I-85 (193 acres, 2 parcels), located at 100 Corporate Center Drive, Spartanburg; and the Bryant Business Center (14 acres, 1 parcel), located at 140 Landers Drive, Spartanburg; Proposed Site 10 (334 acres, 2 parcels)—Interchange Commerce Center, located at John Dodd Road and Interstate 26, Spartanburg; Proposed Site 11 (51 acres)—Caliber Ridge Industrial Park, 1501 Highway 101 in Greer; and, Proposed Site 12 (4 acres)—Industrial Warehousing, 100 Fortis Drive, Duncan. The proposed sites are owned by Fairforest Venture Partners (Site 8), Peter E. Weisman/Kinney Hill Associates, LP (Site 9), High Site and John Dodds Road Properties, LLC dba Johnson Development Associates, Inc. (Site 10), JLN Investors, Inc. (Site 11), and, Betula, LLC (Site 12). The sites will be used primarily for warehousing and distribution activities. No specific manufacturing authority is being requested at this time. Such requests would be made to the Board on a case-by-case basis.

The applicant is also requesting that 19 acres at Site 3 (Highway 290 Commerce Park) be restored to zone status and that Temporary Site T-1 (19 acres) located at 240 Parkway East in Duncan, be granted zone status on a permanent basis as Site 7. Additionally, the applicant is requesting that the Board make Site 1 permanent at the Global Trade Center in Greenville (Site 1 was previously at the Highway 29 Industrial Park in Wellford).

In accordance with the Board's regulations, a member of the FTZ staff has been designated examiner to investigate the application and report to the Board.

Public comment is invited from interested parties. Submissions (original and 3 copies) shall be addressed to the Board's Executive Secretary at the address listed below. The closing period for their receipt is March 10, 2008. Rebuttal comments in response to material submitted during the foregoing period may be submitted during the subsequent 15-day period to March 24, 2008.

A copy of the application and accompanying exhibits will be available for public inspection at each of the following locations: U.S. Department of Commerce Export Assistance Center, 216 S. Pleasantburg Drive, Suite 243, Buck Mickel Center, Greenville, S.C. 29607; and, Office of the Executive Secretary, Foreign-Trade Zones Board, Room 2111, U.S. Department of Commerce, 1401 Constitution Avenue NW., Washington, DC 20230.

For further information, contact Christopher Kemp at christopher_kemp@ita.doc.gov or (202) 482-0862.

Dated: December 20, 2007.
Andrew McGilvray,
Executive Secretary.

[FR Doc. E8-112 Filed 1-7-08; 8:45 am]

BILLING CODE 3510-DS-P